DEPARTMENT OF COMMERCE

International Trade Administration

A-570-836

Glycine from the People's Republic of China: Notice of Rescission of Antidumping Duty New Shipper Review

AGENCY: Import Administration, International Trade Administration, Department of Commerce.

SUMMARY: In response to a request from Jiangxi Ansun Chemical Technology Co., Ltd. (“Jiangxi Ansun”) on September 24, 2008, the Department of Commerce (“the Department”) published in the Federal Register a notice announcing the initiation of a new shipper review of the antidumping duty order on glycine from the People's Republic of China (“the PRC”), covering the period March 1, 2008, through August 31, 2008. On February 23, 2009, Jiangxi Ansun withdrew its request for a new shipper review and therefore, we are rescinding this new shipper review.

EFFECTIVE DATE: April 17, 2009.

FOR FURTHER INFORMATION CONTACT: Dena Crossland or Angelica Mendoza, AD/CVD Operations, Office 7, Import Administration, International Trade Administration, U.S. Department of Commerce, 14th Street and Constitution Avenue, NW, Washington, DC 20230; telephone: (202) 482-3362 or (202) 482-3019, respectively.

SUPPLEMENTARY INFORMATION:

Background

The Department received a timely request from Jiangxi Ansun in accordance with section 751(a)(2)(B)(i) of the Tariff Act of 1930, as amended (“the Act”), and 19 CFR 351.214(c), for a new shipper review of the antidumping duty order on glycine from PRC. On October 28, 2008, the Department found that the request for review with respect to Jiangxi Ansun met all of the regulatory requirements set forth in 19 CFR 351.214(b) and initiated an antidumping duty new shipper review. See Glycine from China: Initiation of Antidumping Duty New Shipper Review, 73 FR 65584 (November 4, 2008) (Initiation Notice). On February 23, 2009, Jiangxi Ansun withdrew its request for a new shipper review.

Rescission of New Shipper Review

Section 351.214(f)(1) of the Department's regulations provides that the Department may rescind a new shipper review if the party that requested the review withdraws its request for review within 60 days of the date of publication of the notice of initiation of the requested review. Although Jiangxi Ansun withdrew its request after the 60-day deadline, we find it reasonable to extend the deadline because we have not yet committed significant resources to the Jiangxi Ansun new shipper review, (e.g., we have not issued our preliminary results). Further, we have received a letter from the petitioner GEO Specialty Chemicals Inc., noting that it has no objection to Jiangxi Ausun's withdrawal request for this new shipper review. See Letter from GEO Specialty Chemicals, Inc, dated March 3, 2009. Based upon the above, we are rescinding the new shipper review of the antidumping duty order on glycine from PRC with respect to Jiangxi Ansun.

Notifications

We intend to instruct U.S. Customs and Border Protection (“CBP”) 15 days from the date of publication of the notice to liquidate any entries by Jiangxi Ansun during the period of review at the cash deposit rate in effect at the time of entry.

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (“APO”) of their responsibility concerning the return or destructions of proprietary information disclosed under APO in accordance with 19 CFR 351.305(a). Timely written notification of the return/destruction of APO materials or convesion to judicial protective order is hereby requested. Failure to comply with the regulations and terms of an APO is a violation which is subjet to sanction.

We are issuing and publishing this determination and notice in accordance with section 777(i) of the Act and 19 CFR 351.214(f)(3).

Dated: April 10, 2009.
John M. Andersen,
Acting Deputy Assistant Secretary for Antidumping and Countervailing Duty Operations.

[FR Doc. E9-8861 Filed 4-16-09; 8:45 am]

BILLING CODE 3510-DS-S